DEPARTMENT OF ENERGY

Federal Energy Regulatory Commission

Combined Notice of Filings #1

Take notice that the Commission received the following exempt wholesale generator filings:

Docket Numbers: EG11-126-000.

Applicants: Full Circle Renewables, LLC.

Description: Notice of Self Certification of Exempt Wholesale Generator Status Full Circle Renewables, LLC.

Filed Date: 09/15/2011.

Accession Number: 20110915-5148.

Comment Date: 5 p.m. Eastern Time on Thursday, October 06, 2011.

Take notice that the Commission received the following electric rate filings:

Docket Numbers: ER11-3584-000.

Applicants: Florida Power Corporation.

Description: Compliance Refund Report of Florida Power Corporation.

Filed Date: 08/30/2011.

Accession Number: 20110830-5089.

Comment Date: 5 p.m. Eastern Time on Monday, September 26, 2011.

Docket Numbers: ER11-4541-000.

Applicants: Midwest Independent Transmission System Operator, Inc.

Description: Midwest Independent Transmission System Operator, Inc. submits tariff filing per 35.13(a)(2)(iii: J040 GIA Termination (2) to be effective 11/15/2011.

Filed Date: 09/15/2011.

Accession Number: 20110915-5143.

Comment Date: 5 p.m. Eastern Time on Thursday, October 06, 2011.

Docket Numbers: ER11-4542-000.

Applicants: PJM Interconnection, L.L.C.

Description: PJM Interconnection, L.L.C. submits tariff filing per 35.13(a)(2)(iii: SA #3048 Hawks Nest Hydro and Appalachian Power Co. to be effective 8/16/2011.

Filed Date: 09/15/2011.

Accession Number: 20110915-5147.

Comment Date: 5 p.m. Eastern Time on Thursday, October 06, 2011.

Docket Numbers: ER11-4543-000.

Applicants: Major Energy Electric Services, LLC.

Description: Major Energy Electric Services, LLC submits tariff filing per 35.1: Major Energy Electric Services, LLC MBR Re-file to be effective 9/15/2011.

Filed Date: 09/15/2011.

Accession Number: 20110915-5149.

Comment Date: 5 p.m. Eastern Time on Thursday, October 06, 2011.

Docket Numbers: ER11-4544-000.

Applicants: Respond Power, LLC.

Description: Respond Power, LLC submits tariff filing per 35.1: Respond Power, LLC MBR Re-file to be effective 9/15/2011.

Filed Date: 09/15/2011.

Accession Number: 20110915-5159.

Comment Date: 5 p.m. Eastern Time on Thursday, October 06, 2011.

Docket Numbers: ER11-4545-000.

Applicants: Tampa Electric Company.

Description: Tampa Electric Company submits tariff filing per 35.15: Cancellation of First Revised Service Agreement No. 3—City of Wauchula to be effective 9/30/2011.

Filed Date: 09/15/2011.

Accession Number: 20110915-5164.

Comment Date: 5 p.m. Eastern Time on Thursday, October 06, 2011.

Docket Numbers: ER11-4546-000.

Applicants: Eastman Cogeneration LP.

Description: Eastman Cogeneration LP submits tariff filing per 35.1: Baseline Tariff Filing to be effective 9/15/2011.

Filed Date: 09/15/2011.

Accession Number: 20110915-5178.

Comment Date: 5 p.m. Eastern Time on Thursday, October 06, 2011.

Docket Numbers: ER11-4547-000.

Applicants: Southern California Edison Company.

Description: Southern California Edison Company submits tariff filing per 35.13(a)(2)(iii: SGIA WDAT SERV AG SCE-GPS UCSB Fuel Cell Project to be effective 9/17/2011.

Filed Date: 09/16/2011.

Accession Number: 20110916-5008.

Comment Date: 5 p.m. Eastern Time on Friday, October 07, 2011.

Docket Numbers: ER11-4548-000.

Applicants: Pacific Gas and Electric Company.

Description: Pacific Gas and Electric Company submits tariff filing per 35.13(a)(2)(i): CCSF Facilities Charge Agreement for Moscone Convention Center to be effective 11/16/2011.

Filed Date: 09/16/2011.

Accession Number: 20110916-5013.

Comment Date: 5 p.m. Eastern Time on Friday, October 07, 2011.

Docket Numbers: ER11-4549-000.

Applicants: Tampa Electric Company.

Description: Tampa Electric Company's Request for Extension of Waiver of Wholesale Requirements Tariff Provisions.

Filed Date: 09/15/2011.

Accession Number: 20110915-5191.

Comment Date: 5 p.m. Eastern Time on Thursday, October 06, 2011.

Docket Numbers: ER11-4550-000.

Applicants: Alternate Power Source Inc.,

Description: Alternate Power Source Inc., submits tariff filing per 35.1: Alternate Power Source, Inc. MBR Re-file to be effective 9/16/2011 under ER11-4550 Filing Type: 360

Filed Date: 09/16/2011.

Accession Number: 20110916-5054.

Comment Date: 5 p.m. Eastern Time on Friday, October 07, 2011.

Docket Numbers: ER11-4551-000.

Applicants: Harvard Dedicated Energy Limited.

Description: Harvard Dedicated Energy Limited submits tariff filing per 35.1: Harvard Dedicated Energy Limited MBR re-file to be effective 9/16/2011.

Filed Date: 09/16/2011.

Accession Number: 20110916-5060.

Comment Date: 5 p.m. Eastern Time on Friday, October 07, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

September 16, 2011.
Nathaniel J. Davis, Sr.,
Deputy Secretary.

[FR Doc. 2011-24744 Filed 9-26-11; 8:45 am]

BILLING CODE 6717-01-P